FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Standard Flood Hazard Determination Form.

Type of Information Collection: Revision of a currently approved collection.

Affected Public: Business or other for-profit; individuals or households, and Federal Government. This form is completed by federally regulated lending institutions when making, increasing, extending, renewing or purchasing each loan for the purpose of documenting the factors considered as to whether flood insurance is required and available. FEMA does not collect this information from the lenders.

OMB Number: 3067-0264.

Abstract: On September 23, 1994, President Clinton signed the Riegle Community Development and Regulatory Improvement Act of 1994. Title V of this Act is the National Flood Insurance Reform Act (NFIRA). Section 528 of the NFIRA required the development of a standard form for determining whether a structure is located within an identified Special Flood Hazard Area and whether flood insurance is available. Section 528 of the NFIRA also required the use of this form by regulated lending institutions, federal agency lenders, the Federal National Mortgage Association, the Federal Home Loan Mortgage Corporation, and the Government National Mortgage Association, for any loan made, increased, extended, renewed, or purchased by these entities. FEMA, in consultation with the Federal entities for lending regulation, developed this form in 1995. On July 6, 1995, FEMA published a final rule in the Federal Register, establishing the form. The Federal entities for lending regulation published their final rule requiring the use of the form on July 6, 1995. Use of the form became mandatory on January 2, 1996.

Affected Public: This form is completed by federally regulated lending institutions when making, increasing, extending, renewing or purchasing each loan for the purpose of documenting the factors considered as to whether flood insurance is required and available.

Number of Respondents: An estimated 20,000,000 affected loan applications are processed each year.

Estimated Time per Respondent: The estimated burden time for completing the form is 20 minutes per respondent.

Estimated Total Annual Burden Hours: An estimated 20,000,000 loan transactions multiplied by 0.33 hour per form, results in an estimated annual burden of approximately 6,600,000 hours.

Frequency of Response: The form is required of federally regulated lending institutions when making, increasing, extending, renewing or purchasing any loan secured by improved real estate.

Comments

Interested persons are invited to submit written comments on the information collection to David Rostker, Desk Officer for the Federal Emergency Management Agency, Office of Information and Regulatory Affairs, Office of Management and Budget, Washington, DC 20503 within 30 days of the date of this notice.

FOR FURTHER INFORMATION CONTACT: For additional information about the Standard Flood Hazard Determination Form contact Ms. Anne Flowers at (202) 646-2748. To request copies of the proposed information collection contact Muriel B. Anderson, FEMA Information Collections Officer, Federal Emergency Management Agency, 500 C Street, SW., Room 316, Washington, DC 20472. Telephone number (202) 646-2625. FAX number (202) 646-3524, email address: muriel.anderson@fema.gov.

Dated: July 31, 2002.
Reginald Trujillo,
Director, Program Services and Systems Branch, Facilities Management and Services Division, Administration and Resource Planning Directorate.

[FR Doc. 02-20148 Filed 8-8-02; 8:45 am]

BILLING CODE 6718-01-P